Title 3—

The President

Notice of May 25, 2000

Continuation of Emergency With Respect to the Federal Republic of Yugoslavia (Serbia and Montenegro), the Bosnian Serbs, and Kosovo

In accordance with section 202(d) of the National Emergencies Act (50 U.S.C. 1622(d)), I am continuing for 1 year the national emergency declared on May 30, 1992, with respect to the Federal Republic of Yugoslavia (Serbia and Montenegro), as expanded on October 25, 1994, in response to the actions and policies of the Bosnian Serbs. In addition, I am continuing for 1 year the national emergency declared on June 9, 1998, with respect to the Federal Republic of Yugoslavia's policies and actions in Kosovo. This notice shall be published in the Federal Register and transmitted to the Congress.

On May 30, 1992, by Executive Order 12808, President Bush declared a national emergency to deal with the unusual and extraordinary threat to the national security, foreign policy, and economy of the United States constituted by the actions and policies of the Governments of Serbia and Montenegro, blocking all property and interests in property of those Governments. President Bush took additional measures to prohibit trade and other transactions with the Federal Republic of Yugoslavia (Serbia and Montenegro) by Executive Orders 12810 and 12831, issued on June 5, 1992, and January 15, 1993, respectively, and on April 25, 1993, I issued Executive Order 12846 imposing additional measures.

On October 25, 1994, I expanded the scope of the national emergency by issuing Executive Order 12934 to address the unusual and extraordinary threat to the national security, foreign policy, and economy of the United States posed by the actions and policies of the Bosnian Serb forces and the authorities in the territory that they controlled within Bosnia and Herzegovina.

On December 27, 1995, I issued Presidential Determination 96-7, directing the Secretary of the Treasury, inter alia, to suspend the application of sanctions imposed on the Federal Republic of Yugoslavia (Serbia and Montenegro) pursuant to the above-referenced Executive orders and to continue to block property previously blocked until provision is made to address claims or encumbrances, including the claims of the other successor states of the former Yugoslavia. This sanctions relief, in conformity with United Nations Security Council Resolution 1022 of November 22, 1995 (hereinafter the “Resolution”), was an essential factor motivating Serbia and Montenegro's acceptance of the General Framework Agreement for Peace in Bosnia and Herzegovina initialed by the parties in Dayton on November 21, 1995, and signed in Paris on December 14, 1995 (hereinafter the “Peace Agreement”). The sanctions imposed on the Federal Republic of Yugoslavia (Serbia and Montenegro) were accordingly suspended prospectively, effective January 16, 1996. Sanctions imposed on the Bosnian Serb forces and authorities and on the territory that they control within Bosnia and Herzegovina were subsequently suspended prospectively, effective May 10, 1996, also in conformity with the Peace Agreement and the Resolution. Sanctions against both the Federal Republic of Yugoslavia (Serbia and Montenegro) and the Bosnian Serbs were subsequently terminated by United Nations Security Council Resolution 1074 of October 1, 1996. This termination, however, did not end the requirement of the Resolution that those blocked funds and assets that are subject to claims and encumbrances remain blocked, until unblocked in accordance with applicable law.

Until the status of all remaining blocked property is resolved, the Peace Agreement implemented, and the terms of the Resolution met, the national emergency declared on May 30, 1992, as expanded in scope on October 25, 1994, must continue beyond May 30, 2000.

On June 9, 1998, by Executive Order 13088, I found that the actions and policies of the Federal Republic of Yugoslavia (Serbia and Montenegro) and the Republic of Serbia with respect to Kosovo, by promoting ethnic conflict and human suffering, threatened to destabilize countries in the region and to disrupt progress in Bosnia and Herzegovina in implementing the Dayton peace agreement, constituted an unusual and extraordinary threat to the national security and foreign policy of the United States. I therefore declared a national emergency to deal with that threat. On April 30, 1999, I issued Executive Order 13121 to take additional steps with respect to the continuing human rights and humanitarian crisis in Kosovo and the national emergency declared with respect to Kosovo. Because the crisis with respect to the situation in Kosovo has not been resolved, I have determined that it is necessary to maintain in force these emergency authorities beyond June 9, 2000.

wj

THE WHITE HOUSE,

May 25, 2000.

[FR Doc. 00-13540

Filed 5-25-00; 1:01 pm]

Billing code 3195-01-P